SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: August 1-31, 2021.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries May be sent to the above address.

SUPPLEMENTARY INFORMATION: This notice lists the projects, described below, receiving approval for the consumptive use of water pursuant to the Commission's approval by rule process set forth in 18 CFR 806.22 (e) and 18 CFR 806.22 (f) for the time period specified above:

Water Source Approval—Issued Under 18 CFR 806.22(f)

1. Chesapeake Appalachia, L.L.C; Pad ID: Colcam; ABR-201108019.R2; Meshoppen Township, Wyoming County, Pa.; Consumptive Use of Up to 7.5000 mgd; Approval Date: August 12, 2021.

2. Chesapeake Appalachia, L.L.C; Pad ID: Dewolf; ABR-201608002.R1; Windham Township, Wyoming County, Pa.; Consumptive Use of Up to 7.5000 mgd; Approval Date: August 12, 2021.

3. Chesapeake Appalachia, L.L.C; Pad ID: Joe; ABR-201108014.R2; Wilmot Township, Bradford County, Pa.; Consumptive Use of Up to 7.5000 mgd; Approval Date: August 12, 2021.

4. Chesapeake Appalachia, L.L.C; Pad ID: Mad Dog; ABR-201108021.R2; Wilmot Township, Bradford County, Pa.; Consumptive Use of Up to 7.5000 mgd; Approval Date: August 16, 2021.

5. Repsol Oil & Gas USA, LLC.; Pad ID: SENN (05 253) W; ABR-201106001.R2; Windham Township, Bradford County, Pa.; Consumptive Use of Up to 6.0000 mgd; Approval Date: August 16, 2021.

6. Pennsylvania General Energy Company, L.L.C.; Pad ID:COP Tract 726 Pad C; ABR-202108001; Plunketts Creek Township, Lycoming County, Pa.; Consumptive Use of Up to 4.5000 mgd; Approval Date: August 16, 2021.

7. Pennsylvania General Energy Company, L.L.C.; Pad ID: COP Tract 729 Pad E; ABR-201107046.R2; Cummings Township, Lycoming County, Pa.; Consumptive Use of Up to 3.5000 mgd; Approval Date: August 20, 2021.

8. SWN Production Company, LLC; Pad ID: Bark'em Squirrel Pad; ABR-201107045.R2; New Milford Township, Susquehanna County; Pa.; Consumptive Use of Up to 4.9990 mgd; Approval Date: August 20, 2021.

9. SWN Production Company, LLC; Pad ID: Lyncott Corp Pad; ABR-201107044.R2; New Milford Township, Susquehanna County; Pa.; Consumptive Use of Up to 4.9990 mgd; Approval Date: August 20, 2021.

10. Chesapeake Appalachia, L.L.C; Pad ID: Alexander; ABR-201108031.R2; Terry Township, Bradford County, Pa.; Consumptive Use of Up to 7.5000 mgd; Approval Date: August 23, 2021.

11. Chesapeake Appalachia, L.L.C; Pad ID: Susan; ABR-201108036.R2; Auburn Township, Susquehanna County, Pa.; Consumptive Use of Up to 7.5000 mgd; Approval Date: August 23, 2021.

12. Chesapeake Appalachia, L.L.C; Pad ID: Tyler; ABR-201108034.R2; Auburn Township, Susquehanna County, Pa.; Consumptive Use of Up to 7.5000 mgd; Approval Date: August 23, 2021.

13. Chesapeake Appalachia, L.L.C; Pad ID: Adams; ABR-201108038.R2; Windham Township, Wyoming County, Pa.; Consumptive Use of Up to 7.5000 mgd; Approval Date: August 26, 2021.

14. Chesapeake Appalachia, L.L.C; Pad ID: Hillis; ABR-201108035.R2; Herrick Township, Bradford County, Pa.; Consumptive Use of Up to 7.5000 mgd; Approval Date: August 26, 2021.

15. XTO Energy, Inc.; Pad ID: PA Tract Unit I; ABR-201108040.R2; Chapman Township, Clinton County, Pa.; Consumptive Use of Up to 4.0000 mgd; Approval Date: August 26, 2021.

16. XTO Energy, Inc.; Pad ID: PA Tract Unit E; ABR-201108041.R2; Chapman Township, Clinton County, Pa.; Consumptive Use of Up to 4.0000 mgd; Approval Date: August 26, 2021.

17. ARD Operating, LLC; Pad ID: H Lyle Landon Pad A; ABR-201106020.R2; Cogan House Township, Lycoming County, Pa.; Consumptive Use of Up to 4.0000 mgd; Approval Date: August 27, 2021.

18. ARD Operating, LLC; Pad ID: Larry's Creek F&G Pad H; ABR-201106019.R2; Cummings Township, Lycoming County, Pa.; Consumptive Use of Up to 4.0000 mgd; Approval Date: August 27, 2021.

19. Chesapeake Appalachia, L.L.C.; Pad ID: Albertson; ABR-201108048.R2; Athens Township, Bradford County, Pa.; Consumptive Use of Up to 7.5000 mgd; Approval Date: August 30, 2021.

20. Chesapeake Appalachia, L.L.C.; Pad ID: Merryall; ABR-201108047.R2; Wyalusing Township, Bradford County, Pa.; Consumptive Use of Up to 7.5000 mgd; Approval Date: August 31, 2021.

21. Chief Oil & Gas, LLC; Pad ID: Savage Drilling Pad #1; ABR-201108018.R2; Elkland Township, Sullivan County, Pa.; Consumptive Use of Up to 2.0000 mgd; Approval Date: August 31, 2021.

22. Repsol Oil & Gas USA, LLC; Pad ID: EVERTS (03 086) P; ABR-201606006.R1; Columbia Township, Bradford County, Pa.; Consumptive Use of Up to 6.0000 mgd; Approval Date: August 31, 2021.

23. Cabot Oil & Gas Corporation; Pad ID: Mogridge P1; ABR-201108005.R1; Springville Township, Susquehanna County, Pa.; Consumptive Use of Up to 5.0000 mgd; Approval Date: August 31, 2021.

24. SWN Production Company, LLC; Pad ID: Van Order Pad; ABR-201107042.R2; Lawrence Township, Tioga County, Pa.; Consumptive Use of Up to 4.9990 mgd; Approval Date: August 31, 2021.

25. ARD Operating, LLC; Pad ID: COP Tr 357 Pad B; ABR-201007072.R2; Cummings Township, Lycoming County, Pa.; Consumptive Use of Up to 4.0000 mgd; Approval Date: August 31, 2021

Authority: Pub. L. 91-575, 84 Stat. 1509 et seq., 18 CFR parts 806, 807, and 808.

Dated: September 9, 2021.
Jason E. Oyler,
General Counsel and Secretary to the Commission.

[FR Doc. 2021-19767 Filed 9-13-21; 8:45 am]

BILLING CODE 7040-01-P